DEPARTMENT OF COMMERCE

National Oceanic and Atmospheric Administration

RIN 0648-XE051

Western Pacific Fishery Management Council; Public Meetings

AGENCY: National Marine Fisheries Service (NMFS), National Oceanic and Atmospheric Administration (NOAA), Commerce.

ACTION: Notice of public meetings.

SUMMARY: The Western Pacific Fishery Management Council (Council) will convene a Tier 3 Stock Assessment Panel Review of the draft Stock Assessment Updates for the Bottomfish Management Unit Species of American Samoa, Guam and Commonwealth of Northern Mariana Islands (CNMI) in 2015 Using Data through 2013. The Review Panel will review the soundness and reliability of the stock assessment results and conclusions for management use. The Council's Scientific and Statistical Committee will hold its 120th meeting to deliberate the results of the Tier 3 review and receive a presentation on the final stock assessment update as revised based on the Tier 3 panel recommendations. The SSC will make its determination of best available scientific information for the Council to consider in specifying Annual Catch Limits for the Territorial bottomfish fisheries. The Council will also convene a meeting of the Risk of Overfishing (denoted by P*) Working Group (P* WG) for the American Samoa, Guam and CNMI Bottomfish Fishery. The P* WG will review the P* dimensions and criteria, provide new scores (as appropriate), and recommend appropriate risk of overfishing levels. This will be the basis for the specification of Acceptable Biological Catch (ABC) levels for the Scientific and Statistical Committee (SSC) to consider at its 121st meeting.

DATES: The Tier 3 Stock Assessment Peer-Review Panel will be on August 11 to 12, 2015. The 120th SSC meeting will be on September 16, 2015. The P* WG meeting will be on September 23 to 24, 2015. For specific times and agendas, see SUPPLEMENTARY INFORMATION.

ADDRESSES: The Tier 3 Stock Assessment Peer-Review Panel, P* WG meeting and 120th SSC meeting will be held at the Council office, 1164 Bishop Street, Suite 1400, Honolulu, HI 96813; telephone (808) 522-8220. WebEx and teleconference facilities will be provided for the P* WG meeting and the 120th SSC meeting for participants from American Samoa, Guam, and CNMI. The teleconference numbers are: U.S. toll-free: 1-888-482-3560 or International Access: +1 647 723-3959, and Access Code: 5228220; The web conference can be accessed at https://wprfmc.webex.com/join/info.wpcouncilnoaa.gov.

FOR FURTHER INFORMATION CONTACT: Kitty M. Simonds, Executive Director; telephone: (808) 522-8220.

SUPPLEMENTARY INFORMATION: Public comment periods will be provided. The order in which agenda items are addressed may change. The meetings will run as late as necessary to complete scheduled business.

Schedule and Agenda for the Tier 3 Stock Assessment Panel Review

August 11, 2015—9 a.m.-4 p.m.

1. Introduction

2. Background information

A. Objectives and Terms of Reference

B. Fishery Operation

C. Management

3. Review of Stock Assessment Update

4. Questions to presenters

5. Panel discussions (closed)

August 12, 2015—9 a.m.-4 p.m.

6. Panel discussions, continued (closed)

7. Present results of review and recommendations

8. Adjourn

Schedule and Agenda for the 120th SSC Meeting

September 16, 2015—1 p.m.-5 p.m.

1. Introductions

2. Approval of Draft Agenda and Assignment of Rapporteurs

3. Insular Fisheries

A. Report on the Tier 3 Panel Review of the Bottomfish Stock Assessment Updates for American Samoa, Guam, and CNMI

B. Report on the final Bottomfish Stock Assessment Updates for American Samoa, Guam, and CNMI

C. Public Comment

D. SSC Discussion and Recommendations

4. Other Business

A. 121st SSC Meeting

5. Summary of SSC Recommendations to the Council

Schedule and Agenda for the P* Working Group Meeting

September 23, 2015—1 p.m.-5 p.m.

1. Introductions

2. Recommendations from previous Council meetings

3. Overview of the P* process

4. State of the Science for the Territory Bottomfish

A. Report on the Tier 3 panel review comments

B. Report on 2015 draft Territorial Bottomfish stock assessment updates

5. Review of the P* Dimensions and Criteria

A. Assessment information

B. Uncertainty characterization

C. Stock status

D. Productivity and susceptibility

6. Public comment

September 24, 2015—1 p.m.-5 p.m.

7. Working group re-scoring session

A. Assessment information

B. Uncertainty characterization

C. Stock status

D. Productivity and susceptibility

8. Discussion on potential changes to the P* dimensions and criteria

9. General Discussion

10. Public comment

11. Summary of scores and P* recommendations

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: July 22, 2015.
Tracey L. Thompson,
Acting Deputy Director, Office of Sustainable Fisheries, National Marine Fisheries Service.

[FR Doc. 2015-18322 Filed 7-24-15; 8:45 am]

BILLING CODE 3510-22-P